ENVIRONMENTAL PROTECTION AGENCY

[FRL-8229-1]

Science Advisory Board Staff Office

Notification of Multiple Upcoming SAB Hypoxia Advisory Panel Teleconferences; Correction

AGENCY: Environmental Protection Agency (EPA).

ACTION: Notice; correction.

SUMMARY: The EPA Science Advisory Board (SAB) Staff Office published a notice in the Federal Register of September 25, 2006, announcing seven upcoming public teleconferences of the SAB Hypoxia Advisory Panel Subgroups. The notice contained incorrect times for two of the teleconferences.

FOR FURTHER INFORMATION CONTACT: Dr. Holly Stallworth, Designated Federal Officer, by telephone at (202) 343-9867, fax at (202) 233-0643, or e-mail at stallworth.holly@epa.gov. General information about the SAB as well as any updates concerning the SAB Hypoxia Advisory Panel Subgroup teleconferences, may be found on the SAB Web Site at: http://www.epa.gov/sab.

Correction:

In the Federal Register of September 25, 2006, in FR Doc. 06-8177, on page 55786, correct the DATES caption to read:

DATES: The dates for the seven teleconferences are:

(1) SAB Hypoxia Advisory Panel Subgroup 1 Characterization of the Causes of Hypoxia—October 17, 2006 and November 15, 2006 from 9 a.m. to 12 p.m. (Eastern Time);

(2) SAB Hypoxia Advisory Panel Subgroup 2 Characterization of Nutrient Fate, Transport, and Sources—October 16, 2006 from 2 to 5 p.m. (Eastern Time), and November 21, 2006 from 10 a.m. to 1 p.m. (Eastern Time); and

(3) SAB Hypoxia Advisory Panel Subgroup 3 Scientific Basis for Goals and Management Options—October 6, October 30, and November 27, 2006 from 1 to 4 p.m. (Eastern Time).

Dated: September 29, 2006.
Anthony F. Maciorowski,
Associate Director for Science, EPA Science Advisory Board Staff Office.

[FR Doc. E6-16571 Filed 10-5-06; 8:45 am]

BILLING CODE 6560-50-P